DEPARTMENT OF HOMELAND SECURITY

Coast Guard

33 CFR Part 165

[Docket No. USCG-2024-0545]

Safety Zone; Fall River Fireworks Display, Fall River, MA

AGENCY: Coast Guard, DHS.

ACTION: Notification of enforcement of regulation.

SUMMARY: The Coast Guard will enforce the safety zone for the Fall River Fireworks Display on July 4, 2024, to provide for the safety of life on navigable waterways during this firework display. Our regulation for marine events within the First Coast Guard District identifies the regulated area for this event in Fall River, MA. During the enforcement periods, the operator of any vessel in the regulated area must comply with directions from the Patrol Commander or any Official Patrol displaying a Coast Guard ensign.

DATES: The regulation for the event 1.3 Fall River Fireworks listed in Table to 33 CFR 165.173 will be enforced from 9 p.m. until 11 p.m. on July 4, 2024.

FOR FURTHER INFORMATION CONTACT: If you have questions about this notification of enforcement, call or email MST3 Nicholas Easley, Waterways Management Division, Sector Southeastern New England, U.S. Coast Guard; telephone 206-827-4160, email SENEWWM@uscg.mil.

SUPPLEMENTARY INFORMATION: The Coast Guard will enforce the safety zone for the Fall River Fireworks Display regulated area in 33 CFR 165.173 from 9 p.m. to 11 p.m. on July 4, 2024. This action is being taken to provide for the safety of life on navigable waterways during this 1-day event. Our regulation for marine events within the First Coast Guard District, § 165.173, specifies the location of the regulated area for the Fall River Fireworks Display, which is in the vicinity of Battleship Cove, Fall River, MA. During the enforcement periods, as reflected in § 165.173, if you are the operator of a vessel in the regulated area you must comply with directions from the Patrol Commander or any Official Patrol displaying a Coast Guard ensign.

In addition to this notification of enforcement in the Federal Register, the Coast Guard plans to provide notification of this enforcement period via the Local Notice to Mariners and marine information broadcasts.

C. Prindle,
Captain, U.S. Coast Guard, Captain of the Port Sector Southeastern New England.

[FR Doc. 2024-14376 Filed 6-28-24; 8:45 am]

BILLING CODE 9110-04-P